ENVIRONMENTAL PROTECTION AGENCY

[FRL-7660-2]

Proposed Administrative Settlement Agreement Pursuant to the Comprehensive Environmental Response, Compensation, and Liability Act (CERCLA)—Creede Airport Properties Site, Mineral County, Colorado

AGENCY: Environmental Protection Agency.

ACTION: Notice and request for public comment.

SUMMARY: Notice is hereby given of a proposed settlement under the Comprehensive Environmental Response, Compensation, and Liability Act (CERCLA), concerning property in the vicinity of the Mineral County Memorial Airport, Creede, Colorado (Property). The proposed settlement is a prospective purchaser agreement with John Parker, Navajo Development LLC, Navajo Development Company, Inc. and the Mineral County Fairgrounds Associations (MCFA) (hereinafter, the “Settling Respondents”), which would resolve the CERCLA liability of the Settling Respondents with respect to the Property. Pursuant to the settlement, Settling Respondents will provide EPA and the State access, perform cleanup activities on the Property pursuant to plans approved by the Colorado Voluntary Cleanup Program and grant an environmental covenant that will place land use controls on the Property.

DATES: The public may submit comments to EPA on or before June 11, 2004.

ADDRESSES: The proposed settlement is available for inspection at the EPA Region 8 Superfund Record Center, 999 18th Street, 5th Floor, North Tower, Denver, Colorado, (303) 312-6473. Comments should be addressed to Suzanne Bohan, Enforcement Attorney, (8ENF-L), U.S. Environmental Protection Agency, 999 18th Street, Suite 300, Denver, Colorado, 80202-2466, and should reference the Creede Airport Properties Prospective Purchaser Agreement.

FOR FURTHER INFORMATION CONTACT: Suzanne Bohan, Enforcement Attorney, at (303) 312-6925.

SUPPLEMENTARY INFORMATION: The Creede Airport Properties Site (Site) includes nearly 300 acres and is located just south of the City of Creede on the relatively flat flood plain of Willow Creek. The Rio Grande flows from west to east approximately one half mile south of the Property. The Site has been impacted by historical mining activities upstream of Creede.

Within the Site, there are five parcels of land; all are adjacent to or part of the Mineral County Airport in Creede. Navajo Development, LLC, and Navajo Development, Inc. has an option to purchase Parcel 1 (consisting of subparcels 1A, 1B 1C and 1D)(hereinafter, “the Property”). The Property is owned by Creede Mines, Inc. Navajo intends to purchase the Property and donate 3 subparcels (subparcels 1B, 1C and 1D) to the Mineral County Fairgrounds Association (“MCFA”), a 501(c)(3) non-profit charitable organization, simultaneous with Navajo's acquisition of Parcel 1.

After completing the cleanups on the Property, the Settling Respondents plan to redevelop this idle property for a mixture of uses which may include low income housing, commercial development and a bike trail.

It is so agreed.

Dated: April 29, 2004.
Carol Rushin,
Assistant Regional Administrator, Region 8.

[FR Doc. 04-10777 Filed 5-11-04; 8:45 am]

BILLING CODE 6560-50-P